DEPARTMENT OF JUSTICE

Notice of Lodging Proposed Consent Decree

In accordance with Departmental Policy, 28 CFR 50.7, notice is hereby given that a proposed Consent Decree in United States v. Bobby Wolford Trucking & Salvage, Inc. and Karl Frederick Klock Pacific Bison, LLC, Case No. 2:18-cv-747-TSZ, was lodged with the United States District Court for the Western District of Washington on October 19, 2020.

This proposed Consent Decree concerns a complaint filed by the United States against Defendants Bobby Wolford Trucking & Salvage, Inc. and Karl Frederick Klock Pacific Bison, LLC, pursuant to Clean Water Act Section 309, 33 U.S.C. 1319, to obtain injunctive relief from and impose civil penalties against the Defendants for violating the Clean Water Act by discharging pollutants without a permit into waters of the United States. The proposed Consent Decree resolves these allegations by requiring the Defendants to restore the impacted areas, perform mitigation, and pay a civil penalty.

The Department of Justice will accept written comments relating to this proposed Consent Decree for thirty (30) days from the date of publication of this Notice. Please address comments to Kent E. Hanson, Senior Attorney, United States Department of Justice, Environmental Defense Section, Post Office Box 7611, Washington, DC 20044-7611, and refer to United States v. Bobby Wolford Trucking & Salvage, Inc., et al., DJ #90-5-1-1-19923.

The proposed Consent Decree may be examined electronically at http://www.justice.gov/enrd/consent-decrees. Due to the ongoing Coronavirus/COVID-19 emergency, the Clerk's Office, United States District Court for the Western District of Washington, 700 Stewart Street, Suite 2310, Seattle, WA, continues to have limited public access.

Cherie Rogers,
Assistant Section Chief, Environmental Defense Section, Environment and Natural Resources Division.

[FR Doc. 2020-23809 Filed 10-27-20; 8:45 am]

BILLING CODE 4410-CW-P